NUCLEAR REGULATORY COMMISSION

Notice of Availability of NUREG-1833, “Technical Bases for Revision to the License Renewal Guidance Documents”

AGENCY: Nuclear Regulatory Commission.

ACTION: Notice of availability.

SUMMARY: The U.S. Nuclear Regulatory Commission (NRC) is issuing NUREG-1833, “Technical Bases for Revision to the License Renewal Guidance Documents.” This document describes the technical bases for the revision of NUREG-1801, “Generic Aging Lessons Learned (GALL) Report” and NUREG-1800 “Standard Review Plan for the Review of License Renewal Applications for Nuclear Power Plants” (SRP-LR).

ADDRESSES: Copies are available in the Commission's Public Document Room (PDR), located at One White Flint North, 11555 Rockville Pike (first floor), Rockville, Maryland 20852-2738. The NRC maintains an Agencywide Documents Access and Management System (ADAMS), which provides text and image files of NRC's public documents. This document may be accessed through the NRC's Public Electronic Reading Room on the Internet at http://www.nrc.gov/reading-rm/adams.html under ADAMS accession number ML052110003. Persons who do not have access to ADAMS or who encounter problems in accessing the documents located in ADAMS should contact the NRC's PDR Reference staff at 1-800-397-4209, 301-415-4737, or by e-mail at pdr@nrc.gov.

FOR FURTHER INFORMATION CONTACT: Mr. Jerry Dozier, License Renewal Project Manager, Office of Nuclear Reactor Regulation, Mail Stop O-11F1, U.S. Nuclear Regulatory Commission, Washington, DC 20555-0001, telephone 301-415-1014, or by e-mail at jxd@nrc.gov.

SUPPLEMENTARY INFORMATION:

Technical Bases for Revision to the License Renewal Guidelines Documents

The NRC staff has written NUREG-1833 to document and justify the technical changes to the GALL Report and SRP-LR since the 2001 publication. The changes that were made when revising these license renewal guidance documents are captured in NUREG-1833, along with the bases for technical changes. Changes to the GALL Report and SRP-LR are in the following categories: (1) Roll-Up Changes; (2) Incorporation of NRC Positions; (3) Operating Experience; and (4) Technical or Process Clarifications and Corrections.

Dated at Rockville, Maryland, this 18th day of October 2005.
For the Nuclear Regulatory Commission.
Pao-Tsin Kuo,
Program Director, License Renewal and Environmental Impacts Program, Division of Regulatory Improvement Programs, Office of Nuclear Reactor Regulation.

[FR Doc. E5-5947 Filed 10-25-05; 8:45 am]

BILLING CODE 7590-01-P